DEPARTMENT OF TRANSPORTATION

Federal Highway Administration

Environmental Impact Statement: Fairbanks, AK

AGENCY: Federal Highway Administration (FHWA), and Alaska Department of Transportation and Public Facilities (ADOT&PF).

ACTION: Notice of intent.

SUMMARY: The FHWA is issuing this notice to advise the public that a Supplemental Environmental Impact Statement will be prepared for a proposed transportation improvement project on University Avenue in Fairbanks, Alaska.

FOR FURTHER INFORMATION CONTACT: Edrie Vinson, Environmental Project Manager, Federal Highway Administration, Alaska Division Office, 709 W. 9th Street, Room 851, P.O. Box 21648, Juneau, Alaska 99802-1648. Telephone (907) 586-7464. Janet Brown, P.E., Project Manager, Alaska Department of Transportation and Public Facilities, Preliminary Design & Environmental, 2301 Peger Road, Fairbanks, Alaska 99709-5399. Telephone (907) 451-2283.

SUPPLEMENTARY INFORMATION: An Environmental Impact Statement (EIS) to rehabilitate and widen University Avenue was prepared in July 1988,a Final EIS (FEIS) was approved June 30, 1991, and the FHWA issued a Record of Decision (ROD) in August of 1991.

The Selected Alternative in the ROD would reconstruct University Avenue in Fairbanks, Alaska between the Mitchell Expressway and Thomas Street, a distance of 21 miles. University Avenue was to be reconstructed with a two-way center turn lane (16-feet wide) over much of the alignment. A raised center meridian with left turn pockets was designed for 33% of the roadway. This alternative included 8-foot shoulders with a combined 10-foot wide pedestrian/bike path on the west and a 5-foot wide sidewalk on the east of University Avenue. The Chena River Bridge widening was a rehabilitation of the existing structure. The Geraghty Avenue intersection was to be moved 150-feet north, to provide a greater separation from the intersection with Airport Way.

The project as approved was never built. Since that time the ADOT&PF has determined to maximize the use of existing right-of-way, and reduce environmental impacts by minimizing the total project footprint. Safety would be improved by reducing direct access to some locations along University. Such changes to the project require the preparation of a Supplemental EIS. These proposed changes include a continuous raised meridian over 89% of the roadway with left turn lanes only at the 12 intersections; narrowing the pedestrian/bike path to 8 feet in width; replacing the Chena River Bridge; and constructing a grade separated Alaska Railroad crossing over University Avenue. Elevating the railroad would require the closing of the Fairbanks Street entrance to the University of Alaska Fairbanks and replacement with a pedestrian/bike path and tunnel under the railroad. Additional improvements proposed include making Geraghty Avenue a right turn in and right turn out intersection in its current location and the Airport Avenue frontage road would end in a cul-de-sac. Halvorson Road would be extended 720 feet northward to Wolf Run and Indiana Avenue would be relocated 160 feet to the south. Intersection improvements would be added at Airport Way and Geist Road/Johansen Expressway.

The Supplemental EIS will update the analyses of all the reasonable alternatives evaluated in the FEIS, including the alternative previously identified as the Preferred Alternative.

Announcements describing the SEIS process and requesting comments will be sent to appropriate Federal, State, and local agencies, and to private organizations and citizens who have previously expressed or are known to have interest in this proposal. Public notices will also be published in local newspapers. Public and agency scoping meetings will be announced and held in Fairbanks, Alaska. A public hearing will be held after approval of the SEIS. Public notice will be given of the time and place of the hearing. The SEIS will be available for public and agency review and comment prior to the hearing.

To ensure that the full range of issues related to this proposed action are addressed and all significant issues identified, written public input, comments and suggestions on environmental issues or concerns related to the proposed improvements are invited from all interested parties. Comments should be submitted to the Federal Highway Administration or the Alaska Department of Transportation and Public Facilities at the addresses provided above by May 30, 2004.

(Catalog of Federal Domestic Assistance Program Number 20.205, Highway Research, Planning and Construction. The regulations implementing Executive Order 12372 regarding intergovernmental consultation on Federal programs and activities apply to this program.)

Issued on: April 8, 2004.
Karen A. Schmidt,
Assistant Division Administrator.

[FR Doc. 04-8607 Filed 4-15-04; 8:45 am]

BILLING CODE 4910-22-M